DEPARTMENT OF COMMERCE

Foreign-Trade Zones Board

[B-77-2012]

Foreign-Trade Subzone 93G—Oxford, NC; Notification of Proposed Production Activity Revlon Consumer Products Corporation (Cosmetics and Personal Care Products)

Revlon Consumer Products Corporation (Revlon), operator of Subzone 93G, has submitted a notification of proposed production activity for its facility in Oxford, North Carolina. The notification conforming to the requirements of the regulations of the Board (15 CFR 400.22) was received on October 10, 2012.

Revlon's Oxford facility was granted subzone authority in 2006 (Board Order 1433, 71 FR 4112, 1/26/06) for the production of certain cosmetics and personal care products (hair products, fragrances, and skincare products). Revlon is now requesting to add a foreign status component to its FTZ production authority. Production under FTZ procedures could exempt Revlon from customs duty payments on the foreign status components used in export production. On its domestic sales, Revlon would be able to choose the duty rate during customs entry procedures that applies to hair coloring products (duty-free) for the foreign status input noted below. Customs duties also could possibly be deferred or reduced on foreign status production equipment.

The sole component sourced from abroad included in this notification is: Oleic acid (duty rate—2.1c/kg + 3.2%).

Public comment is invited from interested parties. Submissions shall be addressed to the Board's Executive Secretary at the address below. The closing period for their receipt is December 10, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: October 25, 2012.
Andrew McGilvray,
Executive Secretary.

[FR Doc. 2012-26802 Filed 10-30-12; 8:45 am]

BILLING CODE P